DEPARTMENT OF TRANSPORTATION

Federal Railroad Administration

Petition for Modification of Single Car Air Brake Test Procedures

In accordance with Part 232 of Title 49 Code of Federal Regulations (CFR), notice is hereby given that the Federal Railroad Administration (FRA) received a request for modification of the single car air brake test procedures as prescribed in § 232.305(a). The individual petition is described below, including the party seeking relief, the regulatory provisions involved, the nature of the relief being requested, and the petitioner's argument in favor of relief.

The Association of American Railroads

[Docket Number FRA-2004-17566]

Pursuant to 49 CFR 232.307, the Association of American Railroads (AAR) seeks modification of the single car air brake test procedures, S-486, as prescribed in § 232.305(a) of the Brake System Safety Standards for Freight and Other Non-Passenger Trains and Equipment. Specifically, AAR intends to remove all references to the flowrator method of testing brake cylinder leakage, and only permit the use of the gauge. The Sections, Paragraphs and Parts of S-486 that AAR request to be modified are as follows:

Original—3.1.2.6 Check the control valve pipe bracket, associated brake cylinder piping, and empty/load device for male brake cylinder pressure taps. If so equipped, apply a quick-disconnect coupling with a brake cylinder pressure test gauge.

Modification—3.1.2.6 Apply a brake cylinder pressure test gauge to the brake cylinder pressure tap.

Paragraphs 3.1.2.7 and 3.1.2.8 The contents of these two paragraphs are being eliminated.

Original—3.1.2.7 If the car being tested has certain wheel defects, a brake cylinder pressure tap must be installed. See the Field Manual of the AAR Interchange Rules, Rule 3, Chart A, for these defects. After the tap is installed, apply a cylinder test gauge. Note: If the car has the wheel defects shown in the Field Manual of the AAR Interchange Rules, Rule 3, Chart A, and has a pipe plug in the brake cylinder pipe, remove the plug and install an AAR-approved brake cylinder pressure measurement tap. If the car is equipped with an empty/load valve and the pipe plug is located upstream of the empty/load, install the brake cylinder pressure tap downstream of the empty/load valve. After the tap is installed, apply a cylinder test gauge.

Original—3.1.2.8 The preferred location of the male pressure tap is within a 2-ft radius around the exterior surfaces of the pipe bracket for single-capacity brake systems. For brake systems equipped with empty/load valves, the preferred location is within a 2-ft radius of the exterior surfaces of the empty/load valve, and the pressure tap must be located in the pipe from the empty/load valve(s) to the brake cylinder(s). The pressure tap may be located at the side sill of the car near the control valve or the empty/load valve if so equipped. See the AAR Manual of Standards and Recommended Practices, Standard S-4020, for a more detailed description of recommended pressure tap locations.

Paragraph 3.1.2.9 is being modified and renumbered as 3.1.2.7

Original—3.1.2.9 If the car is equipped with an empty/load device, the device must be set to the loaded position. For side frame sensing devices, place a block (2-in. minimum thickness) under the sensing arm. For slope sheet sensing devices, insert a pin (supplied by Ellcon-National) or push in a plunger (WABTEC). Note: For cars equipped with empty/load devices, all test procedures must be performed in the loaded condition. Cars with empty/load devices that automatically reset to the empty position must be manually reset to the loaded condition for each of the tests defined here.

Modification—3.1.2.7 If the car is equipped with an empty/load device, the device must be set to the loaded position. For side frame sensing devices, place a block (2-in. minimum thickness) under the sensing arm. For slope sheet sensing devices, insert a pin (supplied by Ellcon-National) or push in a plunger (WABTEC). Note: For cars equipped with empty/load devices, all test procedures must be performed in the loaded position. Cars with empty/load devices that automatically reset to the empty position must be manually reset to the loaded position for each of the tests defined here.

Original—3.5.1 With the control valve cut in, move the test device handle to position 1 and charge the system to 90 psi. Close the flowrator by-pass cock to determine if excessive leakage exists. Allow the ball to stabilize at its lowest reading. When the ball stabilizes at a point between the condemning line and the bottom of the tube, note the location of the top of the flowrator ball. Open the flowrator by-pass cock.

Modification—3.5.1 With the control valve cut in, move the test device handle to position 1 and charge the system to 90 psi. Close the flowrator by-pass cock to determine if excessive leakage exists. Allow the ball to stabilize at its lowest reading. The ball must stabilize between the condemning line and the bottom of the tube. Open the flowrator by-pass cock. Original—3.6.1 Lubricate the hand brake winding shaft and oil cups, if so equipped, with a good grade of 30W oil. With the hand brake in released position, note that the brake cylinder piston push rod(s) have returned into the brake cylinder(s). Apply the hand brake. Observe that bell crank, if so equipped, is in normal working range. Using a bar, determine that all shoes applied by the hand brake are firmly set against the wheels to verify that associated linkage does not bind or foul. On cars with WABCOPAC/NYCOPAC type truck mounted brakes and a hand brake that operates the brake beams on one or both trucks, a minimum of one shoe on each beam must be firmly set against the wheel to verify that associated linkage does not bind or foul. Release hand brake using operating wheel and/or lever. Note that drum chain is fully unwound, that bell crank, if so equipped, drops to lower limit, and that there is minimal slack in the horizontal chain.

Modification—3.6.1 Lubricate the hand brake winding shaft and oil cups, if so equipped, with a good grade of 30W oil. With the hand brake in released position, note that the brake cylinder piston push rod(s) have returned into the brake cylinder(s). Apply the hand brake. Observe that bell crank, if so equipped, is in normal working range. Using a bar, determine that all shoes applied by the hand brake are firmly set against the wheels to verify that associated linkage does not bind or foul. On cars with WABCOPAC/NYCOPAC type truck mounted brakes and a hand brake that operates the brake beams on one or both trucks, a minimum of one shoe on each beam must be firmly set against the wheel to verify that associated linkage does not bind or foul. Release hand brake using operating wheel and/or lever. Note that drum chain is fully unwound, that bell crank, if so equipped, drops to lower limit, and that there is minimal slack in the horizontal chain. New or reconditioned hand brakes do not require lubrication at the time of application. Handbrakes requiring lubrication shall be in accordance with MSRP section H3.

Paragraph 3.7.6 is being eliminated.

Original—3.7.6 If the car is equipped with a bleed/stabilizing type vent valve, ensure that the bleed valve is reset (stem in, no air exhausting).

Paragraph 3.7.7 is being modified and renumbered as 3.7.6.

Original—3.7.7 If the brake cylinder gauge was installed as described in paragraph 3.1.2.6 or paragraph 3.1.2.7, soap the male pressure tap and coupling. No leakage is allowed. Note the brake cylinder pressure after the brake pipe pressure has stabilized for later comparison with paragraph 3.9.1, emergency tests, and paragraph 3.16.4.2, empty/load test.

Modification—3.7.6 Soap the male pressure tap and coupling. No leakage is allowed. Note the brake cylinder pressure after the brake pipe pressure has stabilized for later comparison with paragraph 3.9.1, emergency tests, and paragraph 3.16.4.2, empty/load test.

Paragraph 3.7.8—is being renumbered as 3.7.7. There will no longer be a Section 3.7.8.

Modification 3.12.1—A third probable cause is being added.

3. Excessive brake cylinder leakage can cause the brake pipe to continue reducing.

Paragraphs 3.12.3 and 3.12.3.1 are being eliminated.

Original—3.12.3 If a brake cylinder pressure gauge was installed, go to paragraph 3.12.3.2.

Original—3.12.3.1 Brake Cylinder Leakage Test—Flowrator Method

Use the flowrator method if a brake cylinder pressure gauge is not used. After the pressure has stabilized at 80 psi, wait 1 minute, close the flowrator by-pass cock, and observe the flowrator until the ball stabilizes. If the airflow causes the top of the flowrator ball to rise two lines or more over the ball position noted previously in the system leakage test (paragraph 3.5.1), inspect the brake cylinder and associated piping for leakage. Repair any leakage found and repeat the test. If no external brake cylinder or associated piping leakage is detected, the probable cause is a defective service portion. If any exhaust of air is detected at the emergency portion vent valve or at a separate quick-service valve, then that particular valve portion is defective. At the completion of this test, open the flowrator by-pass cock. Proceed to paragraph 3.13. Note: In addition to brake cylinder leakage, this test checks for leakage of brake pipe pressure to the brake cylinder when the control valve is in service lap position. This type of defect results in abnormally high brake cylinder pressure. However, emergency reservoir pressure leaking to the brake cylinder or to the auxiliary reservoir has the same effect, but is undetectable with this test.

Paragraph 3.12.3.2 is being modified and renumbered as 3.12.3.

Original—3.12.3.2 Brake Cylinder Leakage Test—Gauge Method

Use the brake cylinder gauge method if a brake cylinder pressure gauge was installed as described in paragraph 3.1.2.6 or paragraph 3.1.2.7. After the brake pipe pressure has stabilized at 80 psi, wait 3 minutes and then note the pressure on the brake cylinder gauge. Wait another 1 minute and then recheck the brake cylinder gauge. No more than a 1-psi increase or decrease in brake cylinder pressure is allowed. If brake cylinder pressure decreases, the probable cause is a leak in the brake cylinder or its associated piping. If brake cylinder pressure increases, the probable cause is either a defective service portion or a defective emergency portion. Note: To determine which portion may be defective, move the device handle to position 5, increase the brake application to a 30-psi reduction, and then return the device handle to position 3. After the brake pipe pressure has stabilized, wait 2 minutes and then note the brake cylinder gauge. Wait another 1 minute and then recheck the brake cylinder gauge. If the brake cylinder pressure has increased, the emergency portion is defective or an internal leak exists in the reservoir separation plate between the auxiliary and emergency reservoirs. If the brake cylinder pressure did not increase, then the service portion is defective.

Modification 3.12.3 Brake Cylinder Leakage Test

After the brake pipe pressure has stabilized at 80 psi, wait 3 minutes and then note the pressure on the brake cylinder gauge. Wait another 1 minute and then recheck the brake cylinder gauge. No more than a 1-psi increase or decrease in brake cylinder pressure is allowed. If brake cylinder pressure decreases, the probable cause is a leak in the brake cylinder or its associated piping. If brake cylinder pressure increases, the probable cause is either a defective service portion or a defective emergency portion. Note: To determine which portion may be defective, move the device handle to position 5, increase the brake application to a 30-psi reduction, and then return the device handle to position 3. After the brake pipe pressure has stabilized, wait 2 minutes and then note the brake cylinder gauge. Wait another 1 minute and then recheck the brake cylinder gauge. If the brake cylinder pressure has increased, the emergency portion is defective or an internal leak exists in the reservoir separation plate between the auxiliary and emergency reservoirs. If the brake cylinder pressure did not increase, then the service portion is defective.

Original—3.16.3 Completing the Test on a Loaded Car

Note: If a car is empty and equipped with an Empty/Load, go to paragraph 3.16.4 or on a car not equipped with a brake cylinder test gauge.

Modification—3.16.3 Completing the Test on a Loaded Car or an Empty Car without Empty/Load.

Note: If a car is empty and equipped with an Empty/Load, go to paragraph 3.16.4.

Original—3.16.4 Completing Test on an empty car equipped with empty/load and a brake cylinder test gauge.

Note: If car has defective slack adjuster, change slack adjuster and test according to Sect 4.1, and then continue test with section 3.16.4.1.

Modification—3.16.4 Completing Test on an empty car equipped with empty/load

Note: If car has defective slack adjuster, change slack adjuster and test according to Sect 4.1, and then continue test with section 3.16.4.1.

Original—3.16.5 If brake cylinder gauge was installed in 3.1.2.6, make certain that gauge is removed at this time. Soap male brake cylinder pressure tap. No leakage is allowed. If leakage is present, drain brake cylinder, release brake and replace the brake cylinder pressure tap per section 4.4.

Modification—3.16.5 Make certain that the brake cylinder pressure gauge is removed at this time. Soap male brake cylinder pressure tap. No leakage is allowed. If leakage is present, drain brake cylinder, release brake and replace the brake cylinder pressure tap per section 4.4.

Paragraphs 3.17.2 through 3.17.5 The contents of these paragraphs have not changed. Paragraph 3.17.2 was divided into two paragraphs, therefore causing the other paragraphs to be renumbered.

Modification—3.17.2 To prevent possible overcharge problems, drain car reservoirs.

Modification—3.17.3 If empty/load device on an empty car was set to loaded position and was not set to empty position in section 3.16.2, return setting to empty position.

Modification—3.17.4 Shut off air supply to test device, or place device handle in Position 3.

Modification—3.17.5 Open ⅜-inch cock, and disconnect test device. Remove dummy coupling.

Modification—3.17.6 If required, secure the car to prevent movement.

Original—4.5 Brake Cylinder Leakage Test Using Gauge

Note: If the car is equipped with an empty/load device, the car must be set to the LOADED position. If the car is equipped with a brake cylinder pressure tap, install a brake cylinder pressure gauge. If the car does not have a tap, go to section 4.2, Retaining Valve Test.

Modification—4.5 Brake Cylinder Leakage Test

Note: If the car is equipped with an empty/load device, the car must be set to the loaded position. Install a brake cylinder pressure gauge.

Interested parties are invited to participate in these proceedings by submitting written views, data, or comments. All communications concerning these proceedings should identify the appropriate docket number (e.g., Docket Number FRA-2004-17566) and must be submitted to the Docket Clerk, DOT Docket Management Facility, Room PL-401 (Plaza Level), 400 7th Street, SW., Washington, DC 20590. Comments received within 60 days of the date of this notice will be considered by FRA before final action is taken. Pursuant to § 232.307(d), if no comment objecting to the requested modification is received during the 60-day comment period, or if FRA does not issue a written objection to the requested modification, the modification will become effective 15 days after the close of the 60-day comment period. All written communications concerning these proceedings are available for examination during regular business hours (9 a.m.—5 p.m.) at the above facility. All documents in the public docket are also available for inspection and copying on the Internet at the docket facility's web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on May 17, 2004.
Grady C. Cothen, Jr.,
Acting Associate Administrator for Safety.

[FR Doc. 04-11591 Filed 5-20-04; 8:45 am]

BILLING CODE 4910-06-P